DEPARTMENT OF TRANSPORTATION

Federal Aviation Administration

[Docket No. FAA-2020-0416]

Agency Information Collection Activities: Requests for Comments; Clearance of Renewed Approval of Information Collection: Dealer's Aircraft Registration Application

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on April 23, 2020. The collection involves submission of an AC Form 8050-5, Dealer's Aircraft Registration Certificate Application, by companies or individuals to obtain a Dealer's Aircraft Registration Certificate, which allows operation of an aircraft instead of obtaining a permanent aircraft registration certificate. The information collection is necessary for a dealer to operate an aircraft without a permanent aircraft registration certificate and to comply with statutory and regulatory requirements.

DATES: Written comments should be submitted by December 4, 2020.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW, Washington, DC 20503.

FOR FURTHER INFORMATION CONTACT: Bonnie Lefko by email at: bonnie.lefko@faa.gov; phone: 405-954-7461.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-0024.

Title: Dealer's Aircraft Registration Certificate Application.

Form Numbers: AC Form 8050-5.

Type of Review: Renewal.

Background: The Federal Register Notice with a 60-day comment period soliciting comments on the following collection of information was published on April 23, 2020 (85 FR 22783). All aircraft must be registered before being flown. Obtaining a dealer's registration certificate allows the holder of that certificate to operate aircraft in lieu of obtaining a permanent aircraft registration certificate. Any individual or company engaged in manufacturing, distributing, or selling aircraft who wants to operate aircraft with a dealer's certificate may apply. Applicants complete the AC Form 8050-5, Dealer's Aircraft Registration Certificate Application. A dealer's certificate is valid for one year from the issuance date. A dealer must re-apply annually to maintain their certificate.

Respondents: Companies or individuals engaged in manufacturing, distributing, or selling aircraft.

Frequency: Annually to maintain a certificate.

Estimated Average Burden per Response: 45 minutes.

Estimated Total Annual Burden: During FY 2019, the FAA received 3,670 applications for dealer's certificates for a total annual burden of 2,753 hours.

Issued in Oklahoma City, OK, on October 30, 2020.
Bonnie Lefko,
Program Analyst, Civil Aviation Registry, Aircraft Registration Branch, AFB-711.

[FR Doc. 2020-24409 Filed 11-3-20; 8:45 am]

BILLING CODE 4910-13-P